COMMITTEE FOR PURCHASE FROM PEOPLE WHO ARE BLIND OR SEVERELY DISABLED

Correction of Notice of Proposed Additions & Deletions; Correction of Notice of Proposed Additions

In the document appearing on page 75496, FR Doc E6-21358, Procurement List Proposed Additions and Deletions, in the issue of December 15, 2006, the Committee published additions and deletions with a comment period to end date of January 21, 2007. The Committee is making a correction to the comment date. The new deadline for the submission of comments is January 14, 2007.

In the document appearing on page 76966, FR Doc E6-21940, Procurement List Proposed Additions, in the issue of December 22, 2006, Committee published additions and deletions with a comment period to end date of January 28, 2007. The Committee is making a correction to the comment date. The new deadline for the submission of comments is January 21, 2007.

Sheryl D. Kennerly,
Director, Information Management.

[FR Doc. E7-326 Filed 1-11-07; 8:45 am]

BILLING CODE 6353-01-P